DEPARTMENT OF AGRICULTURE

Forest Service

Mission Brush, Idado Panhandle National Forests, Boundary County, ID

AGENCY: Forest Service, USDA.

ACTION: Notice of intent to prepare a Supplemental Environmental Impact Statement.

SUMMARY: The USDA Forest Service will prepare a Supplemental Environmental Impact Statement (SEIS) for the Mission Brush project. The Notice of Availability of the Draft EIS for the Mission Brush project was published in the Federal Register (68 FR 53730) on September 12, 2003 and the notice of the Final EIS (69 FR 31613) was published on June 4, 2004. The Record of Decision on this project was administratively appealed to the Regional Forester per 36 CFR part 215. The Regional Forester affirmed my decision on August 30, 2004. However, due to information that has been identified since the availability of the final EIS and ROD, I have determined the need for a supplement. The proposed action is unchanged from the final EIS. A Supplemental EIS is being prepared to address analysis issues raised through the recent opinion issued through the U.S. Court of Appeals for the Ninth Circuit in Lands Council v. Powell, 395 F.3d 1015-1046 (9th Cir. 2005).

DATES: Scoping is not required for supplements to environmental impact statements (40 CFR 1502.9(c)(4)). There was extensive public involvement in the development of the proposed action, the 2003 Draft EIS and the 2004 Final EIS and the Forest Service is not inviting comments at this time.

ADDRESSES: Bonners Ferry Ranger District, 6286 Main Street, Bonners Ferry, ID 83805.

FOR FURTHER INFORMATION CONTACT: Doug Nishek, Project Team Leader, USDA Forest Service, Bonners Ferry Ranger District at 208-267-5561.

SUPPLEMENTARY INFORMATION: The Mission Brush Record of Decision (ROD) was released at the same time as the Final EIS and the legal notice of decision was published in the newspaper of record on June 1, 2004. The ROD selected Alternative 2 and authorized vegetation treatments on a total of approximately 4036 acres through a combination of even-aged and uneven-aged regeneration cuts, partial cuts and tree girdling; fuels treatments on approximately 3900 acres, ecosystem prescribed burning on approximately 238 acres, five miles of temporary road construction to be decommissioned after use, 13 miles of existing roads to be decommissioned, 39 miles of existing roads to be improved, and five miles of existing roads to be placed in storage, and improvement of facilities at Brush Lake Campground.

The Record of Decision was appealed. Following administrative review, the decision was affirmed and the appellant's requested relief denied by the Appeal Deciding Officer for the Northern Region of the USDA Forest Service on August 30, 2004 with the following requirement:

I fine the Forest Supervisor has made a reasoned decision and has complied with all laws, regulations, and policy. After careful consideration of the above factors, I affirm the Forest Supervisor's decision to implement the Mission Brush project. Your requested relief is denied. However, because of the recent 9th Circuit Opinion in Lands Council vs. Powell (Lands Council v. Powell, 395 F.3d 1015-1046 (9th Cir. 2005)), I am directing the Forest to delay implementation of this project until further notice.

The Supplemental EIS will contain information relating to prior and reasonably foreseeable timber harvests in the project's cumulative effects area, water quality and fisheries analysis, soil conditions, stands of old growth trees, and wildlife analysis methodologies. No modifications to the activities authorized by the June 2004 Record of Decision are proposed under this Supplemental EIS (SEIS). The SEIS is intended to provide additional evaluation of the natural resources listed above and provide that information to the public.

The purpose and need for the Mission Brush project includes considerations for vegetation, aquatic ecosystems, wildlife, and recreation. The vegetation goal is to trend the composition, structure, and diversity of landscape patterns toward desired future conditions by providing tree species and stocking levels similar to historic conditions that resist insects, diseases, and stand-replacing wildfire(s), and improve landscape patterns by creating openings that more closely resemble those that occurred historically. For the aquatic ecosystem the goal is to maintain and improve watershed and fisheries in the Mission Creek and Brush Creek drainages. Wildlife goals are to promote the long-term persistence and stability of wildlife habitat and biodiversity by trending toward vegetation that more closely resembles the historic range of variability and improve the diversity of forest structures in to provide wildlife, fish, and plant habitat diversity. For recreation the goal is to provide recreation facilities that are safe, meet universal accessibility requirements, and meet future needs while retaining the rustic nature of the area and improving the quality of the recreation site around Brush Lake.

I am the Responsible Official for this environmental analysis. My address is Idaho Panhandle National Forests, 3815 Schreiber Way, Coeur d'Alene, ID 83814. The Record of Decision for the Mission Brush project will identify the land management activities to be implemented in the project area including acres and types of vegetative treatments, fuels treatments, construction of temporary roads, decomissioning of temporary roads and existing roads, access management, and improvements at Brush Lake Campground.

A Draft SEIS is expected to be available for public review and comment in April 2005; and a final environmental impact statement in June 2005. The mailing list for this project will include those individuals, agencies and organizations on the mailing list for the 2003 Draft EIS.

The comment period for the Draft SEIS will be 45 days from the date the EPA publishes the notice of availability in the Federal Register. In accordance with 36 CFR 215.5, as published in the Federal Register, Volume 68 no. 107, June 4, 2003, the Supplemental Draft EIS comment period will be the designated time in which “substantive” comments will be considered. In addition, the public is encouraged to contact or visit with Forest Service officials during the analysis and prior to the decision. The Forest Service will continue to seek information, comments, and assistance from Federal, Tribal, State, and local agencies and other individuals or organizations that may be interested in or affected by the proposed actions.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental statement stage but that are not raised until after completion of the final environmental statement may be waived or dismissed by the courts. City of Angoon v. Hodel, 803 F 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues related to the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The United States Department of Agriculture (USDA) prohibits discrimination in its programs on the basis of race, color, national origin, sex, religion, age, disability, political beliefs, and marital or familial status. (Not all prohibited bases apply to all programs.) Persons with disabilities who require alternative means of communication of program information (braille, large print, audiotape, etc.) should contact USDA's TARGET Center at (202) 720-2600 (voice and TDD). To file a complaint, write the Secretary of Agriculture, U.S. Department of Agriculture, Washington, DC 20250, or call 800-245-6340 (voice) or 202-720-1127 (TDD). USDA is an equal employment opportunity employer.

The Idaho Panhandle National Forests Supervisor will make a decision on this project after considering comments and responses, environmental consequences discussed in the Supplemental Final EIS, and applicable laws, regulations and policies. The decision and supporting reasons will be documented in a Record of Decision.

Dated: April 11, 2005.
Ranotta K. McNair,
Forest Supervisor, Idaho Panhandle National Forests.

[FR Doc. 05-7671 Filed 4-21-05; 8:45 am]

BILLING CODE 3410-11-M